DEPARTMENT OF STATE

[Public Notice 4318]

Bureau of Educational and Cultural Affairs; South Pacific Scholarship Program

ACTION: Request for proposals.

SUMMARY: The Office of Academic Programs of the Bureau of Educational and Cultural Affairs announces an open competition for the South Pacific Scholarship Program. Public and private non-profit organizations meeting the provisions described in Internal Revenue Code section 26 U.S.C. 501(c)(3) may submit proposals to organize and carry out an academic exchange program for students from the sovereign nations of the South Pacific. The grantee will be responsible for all aspects of the program, including publicity and recruitment of applicants; merit-based competitive selection; placement of students at an accredited U.S. academic institution; student travel to the U.S.; orientation; up to four years of U.S. degree study at the bachelor's or master's level; enrichment programming; advising, monitoring and support; pre-return activities; evaluation; and follow-up. The duration of the grant will be up to five years, beginning in summer 2003. The FY 2003 funding level is approximately $500,000.

Program Information

Overview: The South Pacific Scholarship Program was established by the United States Congress to provide opportunities for U.S. study to students from South Pacific nations in fields important for the region's future development. Public Law 103-236 enacted on April 30, 1994 authorized academic scholarships to qualified students from the sovereign nations of the South Pacific region to pursue undergraduate and postgraduate study at institutions of higher education in the United States.

This program supports increased mutual understanding between the people of the U.S. and those of the South Pacific Islands. Students from the following nations are eligible to apply for these scholarships: Cook Islands, Fiji, Kiribati, Niue, Papua New Guinea, Samoa, Solomon Islands, Tonga, Tuvalu, and Vanuatu.

Requirements and Implementation

The requirements for administration of this program are outlined in further detail in this document and in the Program Objectives, Goals and Implementation (POGI) document. The proposal should respond to each item in the POGI.

Fields of study under the program are based on recommendations from Department of State regional bureau representatives and U.S. embassies abroad and have included public administration, journalism, education, environmental studies, agriculture, political science, business and other fields. The grantee should arrange for the students' enrollment at accredited U.S. institutions of higher education where a full liberal arts curriculum (including social sciences, humanities and sciences) is available. Students selected for these scholarships enroll in four year undergraduate degree programs, or in master's degree programs. The latter have generally involved one year of preparatory U.S. study followed by up to two years of formal master's degree study. This grant award will cover the entire program in the U.S. for the students selected. Students are expected to return home following the completion of their U.S. programs.

Program Components

1. Planning, implementation and monitoring of entire exchange program, based on guidance from the Bureau of Educational and Cultural Affairs. The proposal must demonstrate an understanding of the South Pacific region and culture and close attention to the needs of students coming to the U.S. from the region.

2. Publicity, recruitment and application process for the program. The proposal should indicate specifically what methods will be used to carry out this process for the South Pacific Islands. Recruitment should particularly emphasize outreach beyond capital cities. Bureau sponsorship should be clearly indicated in all materials.

3. Merit-based selection of principals and alternates. The proposal should explain how the recruitment, application and selection processes will ensure that all qualified individuals are encouraged to apply and that candidates are selected solely on the basis of merit. A pool of qualified alternates should be established that may be drawn on in subsequent years, should an additional place in the program become available.

4. Placement and enrollment of students at an accredited U.S. college/university appropriate to their academic and future professional goals. Students may be placed together at the same institution or at different institutions that offer programs that correspond to their academic and professional goals. The proposal should explain how identification with the South Pacific Scholarship program will be established and maintained among students.

5. Pre-arrival information for students, assistance with the visa application process, travel to the U.S., arrival.

6. Orientation and settling in at U.S. institution. The proposal should indicate how the applicant will prepare the students for their exchange experience.

7. Provision of stipends and coverage of other appropriate living/study/enrichment expenses for participants throughout their program. Provision of tax withholding and health insurance.

8. On-going monitoring, academic advising, and general support for students throughout the program. The proposal should indicate what support services will be provided.

9. Management of cross-cultural issues, special situations and emergencies.

10. Opportunities for transfers and exchanges to other U.S. universities during the program to diversify the students' experience and fulfill academic goals.

11. Obtaining of tuition waivers, reduced fees, and other forms of cost-sharing.

12. Cultural/community enrichment for students about U.S. society and culture.

13. Internships and professional development.

14. Pre-return and reentry activities.

15. Evaluation and follow-on including alumni activities.

16. Fiscal Management of any sub-contractors.

17. Compliance with J-1 visa requirements regarding health insurance for participants.

Guidelines

The amount of the grant award in FY 2003 is expected to be approximately $500,000. The award will be made in Summer 2003. The grantee should begin planning immediately for recruitment at that time. Participants are expected to begin their U.S. study programs between January 2004 and Fall 2004. Proposal budgets should include all costs for students to complete the entire program of degree study in the U.S. The proposal should indicate the number of students who will be supported for degree programs with this funding. At this level of funds, applicants are encouraged to budget for at least four students for degree study. The grant will remain open for approximately five years.

If performance under this grant is satisfactory, the award may be renewed each year for approximately two additional years at the Bureau's discretion, assuming that the program continues to receive federal funding.

Programs must comply with J-1 visa regulations. Please refer to the Solicitation Package for further information.

Budget Guidelines

The Bureau anticipates awarding one grant of approximately $500,000 under this competition. Bureau grant guidelines require that organizations with less than four years of experience in conducting international exchanges be limited to $60,000 in Bureau funding. Therefore, organizations that cannot demonstrate at least four years' experience in conducting international exchanges are ineligible to apply under this competition.

Applicants must submit a comprehensive budget for the entire program. There must be a summary budget as well as breakdowns reflecting both administrative and program budgets. Applicants may provide separate sub-budgets for each program component, phase, location, or activity to provide clarification.

Allowable costs for the program may include the following:

(1) Publicity, recruitment, selection, placement and communication with applicants and participants.

(2) Travel for student participants between home and program location.

(3) Tuition and fees, stipends for living costs, book allowances, and other necessary maintenance costs and expenses for the students.

(4) Advising and monitoring of students; academic and cultural support and enrichment activities. This is expected to include some U.S. travel for enrichment purposes. Purchase of individual computers is permitted; please see the POGI for further details.

(5) Pre-return activities and evaluation.

(6) Staff and administrative expenses to carry out the program activities. Administrative and overhead costs should be as low as possible.

Please refer to the Solicitation Package for complete budget guidelines and formatting instructions.

Announcement Title and Number: All correspondence with the Bureau concerning this RFGP should reference the above title and number ECA/A-SP-03-01.

FOR FURTHER INFORMATION CONTACT: Marianne Craven, Managing Director of Academic Programs, ECA/A, Room 202, U.S. Department of State, SA-44, 301 4th Street, SW., Washington, DC 20547, tel. (202) 619-6409, fax. (202) 205-2452, e-mail: mcraven@pd.state.gov to request a Solicitation Package. The Solicitation Package contains detailed award criteria, required application forms, specific budget instructions, and standard guidelines for proposal preparation. Please direct all other inquiries and correspondence to Marianne Craven.

Please read the complete Federal Register announcement before sending inquiries or submitting proposals. Once the RFGP deadline has passed, Bureau staff may not discuss this competition with applicants until the proposal review process has been completed.

To Download a Solicitation Package Via Internet: The entire Solicitation Package may be downloaded from the Bureau's Web site at http://exchanges.state.gov/education/RFGPs. Please read all information before downloading.

Deadline for Proposals: All proposal copies must be received at the Bureau of Educational and Cultural Affairs by 5 p.m. Washington, DC time on Friday, May 2, 2003. Faxed documents will not be accepted at any time. Documents postmarked the due date but received on a later date will not be accepted. Each applicant must ensure that the proposals are received by the above deadline.

Applicants must follow all instructions in the Solicitation Package. The original and 10 copies of the application should be sent to: U.S. Department of State, Bureau of Educational and Cultural Affairs, Ref.: ECA/A-SP-03-01, Program Management, ECA/EX/PM, Room 534, SA-44, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content.

Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of this goal in their program contents, to the full extent deemed feasible.

Adherence to all Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 6Z, including the oversight of Responsible Officers and Alternate Responsible Officers, screening and selection of program participants, provision of pre-arrival information and orientation to participants, monitoring of participants, proper maintenance and security of forms, record-keeping, reporting and other requirements.

The Grantee will be responsible for issuing DS-2019 forms to participants in this program. A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 401-9810, Fax: (202) 401-9809.

Review Process

The Bureau will acknowledge receipt of all proposals and will review them for technical eligibility. Proposals will be deemed ineligible if they do not fully adhere to the guidelines stated herein and in the Solicitation Package. All eligible proposals will be reviewed by the program office. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards resides with the Bureau's Grants Officer.

Review Criteria

Technically eligible applications will be competitively reviewed according to the criteria stated below. These criteria are not rank ordered and all carry equal weight in the proposal evaluation:

1. Quality of the program idea: Proposals should exhibit originality, substance, precision, and relevance to the program goals and mission. The proposal should demonstrate understanding of the South Pacific nations and of the needs of students from the region as related to the program goals.

2. Program planning: Detailed agenda and relevant work plan should demonstrate substantive undertakings and logistical capacity. Agenda and plan should adhere to the program overview and guidelines described above. Each component of the program should be addressed.

3. Ability to achieve program objectives: Objectives should be reasonable, feasible, and flexible. Proposals should explain how objectives will be met through specific activities to be carried out in the U.S. and in the South Pacific.

4. Multiplier effect/impact: Programs should strengthen long-term mutual understanding, including maximum sharing of information and establishment of long-term institutional and individual linkages. Anticipated results of the program in the South Pacific region as well as in the U.S. should be addressed.

5. Diversity in the South Pacific Scholarship Program:

Proposals should demonstrate substantive support for the Bureau's policy on diversity. To the full extent possible, scholarship recipients for this program should be representative of diversity in the following categories: Country of origin/residence within the South Pacific; gender; ethnic community of origin within countries, where relevant; urban and rural regions (with emphasis on outreach beyond capital cities); and proposed fields of study within the general parameters outlined in this solicitation. The proposal should explain what efforts will be undertaken to achieve these goals. The U.S. study and enrichment programs should also incorporate and demonstrate the diversity of the American people, regions and culture.

6. Institutional Capacity: Proposed personnel and institutional resources should be adequate and appropriate to achieve the program goals. The proposal should explain how the grantee organization will meet the requirements of students on this specific program. The proposal should describe the applicant's knowledge of, or prior experience with, students from the South Pacific nations, and/or other developing countries.

7. Institution's Record/Ability: Proposals should demonstrate an institutional record of successful exchange programs, including responsible fiscal management and full compliance with all reporting requirements for past Bureau grants as determined by Bureau Grant Staff. The Bureau will consider the past performance of prior recipients and the demonstrated potential of new applicants.

8. Follow-on Activities: The proposal should provide a plan for continued follow-on activity (without Bureau support) ensuring that Bureau-supported programs are not isolated events.

9. Project Evaluation: The proposal should include a plan to evaluate the activity's success, both as the activities unfold and at the end of the program. A draft survey questionnaire or other technique plus a description of a methodology that will link outcomes to original project objectives is recommended. The grantee will be expected to submit regular written reports (approximately three times each year.)

10. Cost-effectiveness and cost-sharing: The overhead and administrative components of the proposal, including salaries and honoraria, should be kept as low as possible. Proposals should maximize cost-sharing through other private sector support as well as institutional direct funding contributions. Budget estimates should be as accurate as possible over the full period of the grant.

11. Value to U.S.-Partner Country Relations: Proposed programs should receive positive assessments by U.S. Department of State's geographic area desk of potential impact and significance in the partner countries.

Authority

Overall grant making authority for this program is contained in the Mutual Educational and Cultural Exchange Act of 1961, Public Law 87-256, as amended, also known as the Fulbright-Hays Act. The purpose of the Act is “to enable the Government of the United States to increase mutual understanding between the people of the United States and the people of other countries; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: March 13, 2003.
Patricia S. Harrison,
Assistant Secretary for Educational and Cultural Affairs, Department of State.

[FR Doc. 03-6730 Filed 3-19-03; 8:45 am]

BILLING CODE 4710-05-P